DEPARTMENT OF HEALTH AND HUMAN SERVICES

Administration for Children and Families

Notice of Availability of the Biennial Report to Congress on the Status of Children in Head Start Programs

AGENCY: Administration on Children, Youth and Families (ACYF) Administration for Children and Families (ACF), Department of Health and Human Services.

ACTION: Notice.

SUMMARY: The Administration for Children and Families announces publication of the Biennial Report to Congress on the Status of Children in Head Start Programs, Fiscal Year (FY) 2003. The report is mandated under Section 650 of the Head Start Act, as amended, which requires the Secretary of Health and Human Services to submit a report to Congress at least once during every two-year period on the status of children in Head Start programs. During FY 2003 more than 909,000 children were enrolled in Head Start programs including 62,000 children in Early Head Start programs serving children between birth and three years of age.

EFFECTIVE DATE: September 9, 2005.

ADDRESSES: Persons wishing to receive a copy of the Biennial Report to Congress on the Status of Children in Head Start Programs, FY 2003 may contact the Head Start Publication Center on 866-763-6481. Copies of the report may also be obtained by accessing the Head Start Web site at http://www.acf.hhs.gov/programs/hsb/research/index.htm.

FOR FURTHER INFORMATION CONTACT: Frank Fuentes, Acting Associate Commissioner, Head Start Bureau, Administration on Children, Youth and Families, 330 C Street, SW., Washington, DC 20447.

SUPPLEMENTARY INFORMATION: The Head Start and Early Head Start programs are authorized under the Head Start Act (42 U.S.C. 9801 et seq.) It is a national program providing comprehensive developmental services to low-income preschool children, primarily age three to age of compulsory school attendance, and their families. To help enrolled children achieve their full potential, Head Start programs provide comprehensive health, nutritional, educational, social and other services. Section 650 of the Head Start Act requires that the Secretary publish a Biennial Report of the Status of Children in Head Start Programs. The FY 2003 Biennial Report provides information about children enrolled in the program and the services they receive. During FY 2003 more than 909,000 children were enrolled in Head Start programs. Head Start operated 47,000 classrooms in more than 19,000 Head Start centers at an average annual cost per child of $7,092. Over 1,428,000 volunteers contributed their services to Head Start programs.

Dated: August 30, 2005.
Joan E. Ohl,
Commissioner, Administration on Children, Youth and Families.

[FR Doc. 05-17920 Filed 9-8-05; 8:45 am]

BILLING CODE 4184-01-M